DEPARTMENT OF HOUSING AND URBAN DEVELOPMENT

[Docket No. FR-5406-N-03]

Notice of a Federal Advisory Committee Meeting Manufactured Housing Consensus Committee

AGENCY: Office of the Assistant Secretary for Housing—Federal Housing Commissioner, Department of Housing and Urban Development (HUD).

ACTION: Notice of a federal advisory committee meeting.

SUMMARY: This notice sets forth the schedule and proposed agenda for a meeting of the Manufactured Housing Consensus Committee (the Committee). The meeting is open to the public and the site is accessible to individuals with disabilities.

DATES: The meeting will be held on October 27-28, 2010.

ADDRESSES: The meeting will be held at: Holiday Inn Arlington, 4610 N. Fairfax Drive, Arlington, VA 22203.

FOR FURTHER INFORMATION CONTACT: Elizabeth A. Cocke, Deputy Administrator, Department of Housing and Urban Development, 451 7th Street, SW., 9164, Washington, DC 20410, telephone (202) 708-6423 (this is not a toll-free number). Persons who have difficulty hearing or speaking may access this number via TTY by calling the toll-free Federal Information Relay Service at (800) 877-8339.

SUPPLEMENTARY INFORMATION: Notice of this meeting is provided in accordance with section 10(a)(2) of the Federal Advisory Committee Act (5 U.S.C. App.2) and implementing regulations. 41 CFR 102-3.150. The Manufactured Housing Consensus Committee was established under section 604(a)(3) of the National Manufactured Housing Construction and Safety Standards Act of 1974, 42 U.S.C. 5403(a)(3), providing:

(A) Purpose—There is established a committee to be known as the “consensus committee”, which shall, in accordance with this title—

(i) Provide periodic recommendations to the Secretary to adopt, revise, and interpret the Federal manufactured housing construction and safety standards in accordance with this subsection;

(ii) Provide periodic recommendations to the Secretary to adopt, revise, and interpret the procedural and enforcement regulations, including regulations specifying the permissible scope and conduct of monitoring in accordance with subsection (b);

(iii) Be organized and carry out its business in a manner that guarantees a fair opportunity for the expression and consideration of various positions and for public participation; and

(iv) Be deemed to be an advisory committee not composed of Federal employees.

Tentative Agenda

Convene

Federal Advisory Committee preliminaries

Establish presence of Designated Federal Official (DFO)

DFO Announcements

Call to Order

Roll Call/Establish Quorum

Welcome/Introductions/New Members

Administrative Matters/Announcements

Report from HUD officials

Call for Committee Reports (status information only)

Public Comments

Proposals from MHCC to HUD

MHCC recommendations to the Secretary to adopt, revise, and interpret the Federal manufactured housing construction and safety standards

MHCC recommendations to the Secretary to adopt, revise, and interpret the procedural and enforcement regulations

Proposals from HUD to MHCC

Adjourn

Dated: October 4, 2010.
David H. Stevens,
Assistant Secretary for Housing—Federal Housing Commissioner.

[FR Doc. 2010-25443 Filed 10-7-10; 8:45 am]

BILLING CODE 4210-67-P